FEDERAL MARITIME COMMISSION

Performance Review Board

AGENCY: Federal Maritime Commission.

ACTION: Notice.

SUMMARY: Notice is hereby given of the names of the members of the Performance Review Board.

FOR FURTHER INFORMATION CONTACT: Harriette H. Charbonneau, Director of Human Resources, Federal Maritime Commission, 800 North Capitol Street, NW., Washington, DC 20573.

SUPPLEMENTARY INFORMATION: Section 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

Richard A. Lidinsky, Jr.,
Chairman.

The Members of the Performance Review Board are:

1. Joseph E. Brennan, Commissioner.

2. Rebecca F. Dye, Commissioner.

3. Michael A. Khouri, Commissioner.

4. Clay G. Guthridge, Administrative Law Judge.

5. Erin M. Wirth, Administrative Law Judge.

6. Florence A. Carr, Deputy Managing Director.

7. Rebecca A. Fenneman, General Counsel.

8. Karen V. Gregory, Secretary.

9. Vern W. Hill, Director, Office of Consumer Affairs and Dispute Resolution Services.

10. Peter J. King, Director, Bureau of Enforcement.

11. Sandra L. Kusumoto, Director, Bureau of Certification and Licensing.

12. Ronald D. Murphy, Managing Director.

13. Austin L. Schmitt, Director, Bureau of Trade Analysis.

[FR Doc. 2010-32016 Filed 12-20-10; 8:45 am]

BILLING CODE 6730-01-P